DEPARTMENT OF TRANSPORTATION

Federal Aviation Administration

14 CFR Part 39

[Docket No. FAA-2005-20969; Directorate Identifier 2005-NM-017-AD]

RIN 2120-AA64

Airworthiness Directives; Raytheon Model DH.125, HS.125, and BH.125 Series Airplanes; Model BAe.125 Series 800A (C-29A and U-125), 800B, 1000A, and 1000B Airplanes; and Model Hawker 800 (including variant U-125A), and 1000 Airplanes

AGENCY: Federal Aviation Administration (FAA), Department of Transportation (DOT).

ACTION: Notice of proposed rulemaking (NPRM).

SUMMARY: The FAA proposes to supersede an existing airworthiness directive (AD) that applies to certain Raytheon airplanes identified above. The existing AD currently requires a visual inspection to determine whether adequate clearance exists between the fan venturi motor casing and the adjacent equipment, and adjustments, if necessary; and a visual inspection to detect signs of overheating, degradation of insulating materials, and ingestion of debris into the motor, and replacement of discrepant parts with serviceable parts. This proposed AD would instead require that operators replace the fan venturi with a new or modified part. This proposed AD is prompted by reports that the fan venturi overheated and produced smoke while the airplane was on the ground. We are proposing this AD to prevent heat and fire damage to equipment adjacent to the fan venturi, which could result in smoke in the cabin and/or burning equipment.

DATES: We must receive comments on this proposed AD by June 2, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays. For service information identified in this proposed AD, contact Raytheon Aircraft Company, Department 62, P.O. Box 85, Wichita, Kansas 67201-0085.

You can examine the contents of this AD docket on the Internet at http://dms.dot.gov, or in person at the Docket Management Facility, U.S. Department of Transportation, 400 Seventh Street SW., Room PL-401, on the plaza level of the Nassif Building, Washington, DC. This docket number is FAA-2005-20969; the directorate identifier for this docket is 2005-NM-017-AD.

FOR FURTHER INFORMATION CONTACT: Philip Petty, Aerospace Engineer, Electrical Systems and Avionics Branch, ACE-119W, FAA, Wichita Aircraft Certification Office, 1801 Airport Road, Room 100, Mid-Continent Airport, Wichita, Kansas 67209; telephone (316) 946-4139; fax (316) 946-4107.

SUPPLEMENTARY INFORMATION:

Comments Invited

We invite you to submit any relevant written data, views, or arguments regarding this proposed AD. Send your comments to an address listed under ADDRESSES. Include “Docket No. FAA-2005-20969; Directorate Identifier 2005-NM-017-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On May 18, 1994, we issued AD 94-11-03, amendment 39-8919 (59 FR 27231, May 26, 1994), for certain Raytheon Corporate Jets Model DH/BH/HS BAe 125 and Hawker 800 and 1000 series airplanes. That AD requires a visual inspection to determine whether adequate clearance exists between the fan venturi motor casing and the adjacent equipment, and adjustments, if necessary; and a visual inspection to detect signs of overheating, degradation of insulating materials, and ingestion of debris into the motor, and replacement of discrepant parts with serviceable parts. That AD was prompted by reports of smoke emanating from the lavatory due to overheating of the fan venturi motor. We issued that AD to prevent smoke or fire in the cabin while the airplane is in flight.

Actions Since Existing AD Was Issued

Since we issued AD 94-11-03, there have been three additional reports indicating that the fan venturi overheated and produced smoke while the airplane was on the ground. The manufacturer investigated the incidents and found that contamination and corrosion in the fan venturi bearings can jam the rotating assembly and cause the motor to burn out. The airplanes on which the incidents occurred had been inspected and/or repaired in accordance with AD 94-11-03. These further incidents indicate that the actions in AD 94-11-03 may not be adequate.

Relevant Service Information

We have reviewed Raytheon Service Bulletin SB 21-3669, dated December 2004. The service bulletin describes procedures for two options for corrective action:

Option 1: Replacing the fan venturi with a new fan venturi; or

Option 2: Modifying the fan venturi.

The new or modified fan venturi has a larger bearing area with more lubricant to dissipate heat, higher temperature range lubricant, tighter tolerance bearing parts, and thermal protection. Accomplishing the actions specified in the service information is intended to adequately address the unsafe condition.

The Raytheon Service Bulletin refers to Honeywell Service Bulletin 132322-21-4041, Revision 2, dated August 20, 2004, as an additional source of service information for modifying the fan venturi motor assembly. The Honeywell service bulletin is attached to the Raytheon service bulletin.

FAA's Determination and Requirements of the Proposed AD

The unsafe condition described previously is likely to exist or develop on other airplanes of the same type design that may be registered in the U.S. at some time in the future. We are proposing to supersede AD 94-11-03. This proposed AD would not retain the requirements of the existing AD. This proposed AD would require accomplishing the actions specified in the service bulletins described previously.

Explanation of Change to Model Designation

We have revised the effectivity of the proposed AD to identify model designations as published in the most recent type certificate data sheet for the affected models.

Costs of Compliance

There are about 500 airplanes of the affected design worldwide. This proposed AD would affect about 350 airplanes of U.S. registry. The following table provides the estimated costs for U.S. operators to comply with this proposed AD.

Estimated Costs
Action hour | Work hours | Average labor rate per | Parts | Cost per hour airplane
Option 1: Replacement | 4 | $65 | $12,487 | $12,747
Option 2: Modification | 8 | 65 | 2,269 | 2,789

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-8919 (59 FR 27231, May 26, 1994) and adding the following new airworthiness directive (AD):

Raytheon Aircraft Company: Docket No. FAA-2005-20969; Directorate Identifier 2005-NM-017-AD.

Comments Due Date

(a) The Federal Aviation Administration must receive comments on this AD action by June 2, 2005.

Affected ADs

(b) This AD supersedes AD 94-11-03, amendment 39-8919 (59 FR 27231, May 26, 1994).

Applicability

(c) This AD applies to Raytheon Model DH.125, HS.125, and BH.125 series airplanes; Model BAe.125 Series 800A (C-29A and U-125), 800B, 1000A, and 1000B airplanes; and Model Hawker 800 (including variant U-125A), and 1000 airplanes, certificated in any category; as identified in Raytheon Service Bulletin SB 21-3669, dated December, 2004.

Unsafe Condition

(d) This AD was prompted by reports indicating that the fan venturi overheated and produced smoke while the airplane was on the ground. We are issuing this AD to prevent heat and fire damage to equipment adjacent to the fan venturi, which could result in smoke in the cabin and/or burning equipment.

Compliance

(e) You are responsible for having the actions required by this AD performed within the compliance times specified, unless the actions have already been done.

Modification or Replacement

(f) Within 1,200 flight hours or 24 months after the effective date of this AD, whichever occurs first, do the action in either paragraph (f)(1) or (f)(2) of this AD in accordance with the Accomplishment Instructions of Raytheon Service Bulletin SB 21-3669, dated December, 2004.

(1) Modify the existing fan venturi part number (P/N) 132322-2-1 by installing an improved motor, P/N 207640-34.

(2) Replace the existing fan venturi P/N 132322-2-1 with a new fan venturi P/N 132322-3-1.

Note 1: Raytheon Service Bulletin SB 21-3669 refers to Honeywell Service Bulletin 132322-21-4041, Revision 2, dated August 20, 2004, as an additional source of service information for doing the modification. The Honeywell service bulletin is attached to the Raytheon service bulletin.

Parts Installation

(g) As of the effective date of this AD, no person may install a fan venturi, P/N 132322-2-1, on any airplane unless the fan venturi has been modified in accordance with paragraph (f)(1) of this AD; or unless the fan venturi has a new P/N in accordance with paragraph (f)(2) of this AD.

Alternative Methods of Compliance (AMOCs)

(h) The Manager, Wichita Aircraft Certification Office (ACO), FAA, has the authority to approve AMOCs for this AD, if requested in accordance with the procedures found in 14 CFR 39.19.

Issued in Renton, Washington, on April 12, 2005.
Ali Bahrami,
Manager, Transport Airplane Directorate, Aircraft Certification Service.

[FR Doc. 05-7673 Filed 4-15-05; 8:45 am]

BILLING CODE 4910-13-P